DEPARTMENT OF DEFENSE

Office of the Secretary

[Docket ID: DOD-2010-OS-0136]

Privacy Act of 1974; System of Records

AGENCY: Department of Defense (DoD).

ACTION: Notice to add a system of records.

SUMMARY: The Office of the Secretary of Defense is proposing to add a system of records notice to its inventory of record systems subject to the Privacy Act of 1974 (5 U.S.C. 552a), as amended.

DATES: This action will be effective without further notice on November 1, 2010, unless comments are received that would result in a contrary determination.

ADDRESSES: You may submit comments, identified by docket number and title, by any of the following methods:

• Federal Rulemaking Portal: http://www.regulations.gov. Follow the instructions for submitting comments.

• Mail: Federal Docket Management System Office, Room 3C843 Pentagon, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Jacqueline Scott at (813) 827-6629.

SUPPLEMENTARY INFORMATION: The Office of the Secretary of Defense notices for systems of records subject to the Privacy Act of 1974 (5 U.S.C. 552a), as amended, have been published in the Federal Register and are available from the Director for Privacy, Defense Privacy and Civil Liberties Office, 1901 S. Bell Street, Ste. 920, Arlington, VA 22202-4512.

The proposed system report, as required by 5 U.S.C. 552a(r) of the Privacy Act of 1974, as amended, was submitted on September 20, 2010, to the House Committee on Government Reform, the Senate Committee on Governmental Affairs, and the Office of Management and Budget (OMB) pursuant to paragraph 4c of Appendix I to OMB Circular No. A-130, “Federal Agency Responsibilities for Maintaining Records About Individuals,” dated February 8, 1996 (February 20, 1996; 61 FR 6427).

Dated: September 27, 2010.
Mitchell S. Bryman,
Alternate OSD Federal Register Liaison Officer, Department of Defense.

DPR 41 DoD

System Name:

Combined Mild Traumatic Brain Injury Registry.

System Location:

Headquarters CENTCOM, CCJ2/OM Attn: CIDNE Team, 7115 South Boundary Blvd., MacDill AFB, FL 33621-5105. Additional addresses may be obtained from the Program Manager, Combined Information Data Exchange (CIDNE), Air Force Research Laboratory (AFRL), 26 Electronic Parkway, Rome, New York 13441-4514.

Categories of Individuals Covered by the System:

Army, Air Force, Navy, Marine Corps, Reserves and National Guard members assigned to any DoD Combatant Command operating in a deployed setting and are exposed to possible concussive or mild traumatic brain injury and/or related incidents in deployed settings, to include blast events, vehicle collisions/rollovers and/or direct blows to the head, or witnessed loss of consciousness in their Area of Responsibility (AOR).

Categories of Records in the System:

Name, Social Security Number (SSN), date of incident; Injury/Evaluation/Distance from Blast (I.E.D.) Checklist, type of event, Significant Activities (SIGACT)/Joint Operations Center Report Number, Battle Roster Number, Service Branch, unit, combatant command, if the individual was physically injured; type of event individuals experienced at the time of incident (e.g., headaches and/or vomiting; ears ringing; amnesia and/or altered/loss of consciousness; double vision and/or dizziness; and if something felt wrong at time of incident); if the individual was within 50 meters of blast; estimated distance from blast; rest period waived by commander; and disposition of any mandated medical evaluation (returned to duty after 24 hour rest period).

Authority for Maintenance of the System:

5 U.S.C. 301, Department Regulation; 10 U.S.C. 161, Combatant commands: Establishment; 10 U.S.C. 164, Commanders of combatant commands; assignment; powers; Directive Type Memoranda 09-033, Policy Guidance for Management of Concussion/Mild Traumatic Brain Injury in the Deployed Setting; DoD Directive 5124.02, Under Secretary of Defense for Personnel and Readiness; DoD Directive 5100.3, Support of the Headquarters and Subordinate Joint Commands; DoD Directive 5400.11, Department of Defense Privacy Program; Department of Defense 5400.11-R, Department of Defense Privacy Program; Department of Defense 6025.18-R, Health Information Privacy Regulation; DoD Directive 6025-21E, Medical Research for Prevention, Mitigation and Treatment of Blast Injuries; and E.O. 9397 (SSN), as amended.

Purpose(s):

The system will document Active Duty Service member's exposure to possible concussive or mild traumatic brain injury and/or related incidents in deployed settings, including blast events, vehicle collisions/rollovers, and/or direct blows to the head or witnessed loss of consciousness. The system will be used to associate/link individual Service members with operational events and significant activities in the deployed setting that could potentially result in concussion/traumatic brain injury. Such linkage to the event will enable commanders and their representatives, and medical personnel to ensure completion of the DoD-required screening, evaluation, tracking and reporting due to explosions.

Routine Uses of Records Maintained in the System, Including Categories of Users and the Purposes of Such Uses:

In addition to those disclosures generally permitted under 5 U.S.C. 552a(b) of the Privacy Act of 1974, these records contained therein may specifically be disclosed outside the DOD as a routine use pursuant to 5 U.S.C. 552a(b)(3) as follows:

The DoD `Blanket Routine Uses' published at the beginning of the DoD compilation of systems of records notices apply to this system.

Policies and Practices for Storing, Retrieving, Accessing, Retaining, and Disposing of Records in the System:

Storage:

Electronic storage media.

Retrievability:

Name, Social Security Number (SSN), date of incident, type of event, Significant Activities (SIGACT)/Joint Operations Report Number, service branch and unit.

Safeguards:

Records are maintained in a controlled facility. Physical entry is restricted by the use of locks, guards, and is accessible only to authorized personnel. Access to records is limited to person(s) responsible for servicing the record in performance of their official duties and who are properly screened and cleared for need to know. Access to computerized data is restricted by passwords, which are changed periodically.

Retention and Disposal:

Disposition pending (treat as permanent until the National Archives and Records Administration has approved the retention and disposition schedule).

System Manager(S) and Address:

Combined Information Data Exchange (CIDNE), Program Manager, AFRL, 26 Electronic Parkway, Rome, New York 13441-4514.

Notification Procedure:

Individuals seeking to determine whether information about themselves is contained in this system should address written inquiries to Combined Information Data Exchange (CIDNE), Program Manager, AFRL, 26 Electronic Parkway, Rome, New York 13441-4514.

Written requests must include individuals full name, Social Security Number (SSN), date of incident, Branch of Service, unit and must be signed.

Record Access Procedures:

Individuals seeking access to information about themselves contained in this system should address written inquiries to Combined Information Data Exchange (CIDNE), Program Manager, AFRL, 26 Electronic Parkway, Rome, New York 13441-4514.

Written requests must include individuals full name, Social Security Number (SSN), date of incident, Branch of Service, unit and must be signed.

Contesting Record Procedures:

The OSD rules for assessing records, for contesting and appealing initial agency determinations may be obtained from Headquarters CENTCOM, CCJ6/RD Attn: Freedom of Information and Privacy, 7115 South Boundary Blvd., MacDill AFB, FL 33621-5105.

Record Source Categories:

Obtained through U.S. CENTCOM Area of Operation, Significant Activities (SIGACT)/Incident Reports, individual witness reports, and I.E.D. checklist.

Exemptions Claimed for the System:

None.

[FR Doc. 2010-24554 Filed 9-29-10; 8:45 am]

BILLING CODE 5001-06-P